DEPARTMENT OF AGRICULTURE

Animal and Plant Health Inspection Service

[Docket No. APHIS-2017-0071]

Availability of an Environmental Assessment for the Biological Control of Yellow Toadflax

AGENCY: Animal and Plant Health Inspection Service, USDA.

ACTION: Notice of availability and request for comments.

SUMMARY: We are advising the public that the Animal and Plant Health Inspection Service has prepared a draft environmental assessment relative to the control of yellow toadflax (Linaria vulgaris). The environmental assessment considers the effects of, and alternatives to, the field release of a stem gall weevil, Rhinusa pilosa, into the continental United States for use as a biological control agent to reduce the severity of yellow toadflax infestations. We are making the environmental assessment available to the public for review and comment.

DATES: We will consider all comments that we receive on or before November 1, 2017.

ADDRESSES: You may submit comments by either of the following methods:

• Federal eRulemaking Portal: Go to http://www.regulations.gov/#!docketDetail;D=APHIS-2017-0071.

• Postal Mail/Commercial Delivery: Send your comment to Docket No. APHIS-2017-0071, Regulatory Analysis and Development, PPD, APHIS, Station 3A-03.8, 4700 River Road, Unit 118, Riverdale, MD 20737-1238.

Supporting documents and any comments we receive on this docket may be viewed at http://www.regulations.gov/#!docketDetail;D=APHIS-2017-0071 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Colin D. Stewart, Assistant Director, Pests, Pathogens, and Biocontrol Permits, Permitting and Compliance Coordination, PPQ, APHIS, 4700 River Road, Unit 133, Riverdale, MD 20737-1231; (301) 851-2327, email: Colin.Stewart@aphis.usda.gov.

SUPPLEMENTARY INFORMATION: Yellow toadflax is an invasive plant in pastures and crops, particularly in the northern prairies of North America. First introduced to northeastern North America in the 1600s, yellow toadflax has since spread throughout the United States. Invasions of yellow toadflax in pastures and rangelands displace native and planted—and more valued and nutritious—forage species. Yellow toadflax is difficult to control using chemical, mechanical, cultural, or existing biological control practices, and infestations of the plant have caused economically significant losses to peppermint producers, mainly because chemical control is generally incompatible with production cropping practices. The Animal and Plant Health Inspection Service (APHIS) is proposing to issue permits for the field release of a stem gall weevil, Rhinusa pilosa, into the continental United States to reduce the severity of yellow toadflax infestations and to reduce economic losses in the areas of greatest impact since other alternatives are not effective or feasible.

APHIS' review and analysis of the proposed action are documented in detail in a draft environmental assessment (EA) entitled “Field release of the stem gall weevil Rhinusa pilosa (Coleoptera: Curculionidae) for classical biological control of yellow toadflax (Linaria vulgaris) (Plantaginaceae) in the contiguous United States” (March 2017). We are making this EA available to the public for review and comment. We will consider all comments that we receive on or before the date listed under the heading DATES at the beginning of this notice.

The EA may be viewed on the Regulations.gov Web site or in our reading room (see ADDRESSES above for a link to Regulations.gov and information on the location and hours of the reading room). You may request paper copies of the EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 26th day of September 2017.
Michael C. Gregoire,
Acting Administrator, Animal and Plant Health Inspection Service.

[FR Doc. 2017-21105 Filed 9-29-17; 8:45 am]

BILLING CODE 3410-34-P